DEPARTMENT OF ENERGY

Federal Energy Regulatory Commission

Combined Notice of Filings #2

Take notice that the Commission received the following exempt wholesale generator filings:

Docket Numbers: EG16-42-000.

Applicants: Enterprise Solar, LLC.

Description: Notice of Self-Certification of Exempt Wholesale Generator Status of Enterprise Solar, LLC.

Filed Date: 2/1/16.

Accession Number: 20160201-5412.

Comments Due: 5 p.m. ET 2/22/16.

Docket Numbers: EG16-43-000.

Applicants: Escalante Solar I, LLC.

Description: Notice of Self-Certification of Exempt Wholesale Generator Status of Escalante Solar I, LLC.

Filed Date: 2/1/16.

Accession Number: 20160201-5413.

Comments Due: 5 p.m. ET 2/22/16.

Docket Numbers: EG16-44-000.

Applicants: Escalante Solar II, LLC.

Description: Notice of Self-Certification of Exempt Wholesale Generator Status of Escalante Solar II, LLC.

Filed Date: 2/1/16.

Accession Number: 20160201-5419.

Comments Due: 5 p.m. ET 2/22/16.

Docket Numbers: EG16-45-000.

Applicants: Escalante Solar III, LLC.

Description: Notice of Self-Certification of Exempt Wholesale Generator Status of Escalante Solar III, LLC.

Filed Date: 2/1/16.

Accession Number: 20160201-5420.

Comments Due: 5 p.m. ET 2/22/16.

Docket Numbers: EG16-46-000.

Applicants: Granite Mountain Solar East, LLC.

Description: Notice of Self-Certification of Exempt Wholesale Generator Status of Granite Mountain Solar East, LLC.

Filed Date: 2/1/16.

Accession Number: 20160201-5422.

Comments Due: 5 p.m. ET 2/22/16.

Docket Numbers: EG16-47-000.

Applicants: Granite Mountain Solar West, LLC.

Description: Notice of Self-Certification of Exempt Wholesale Generator Status of Granite Mountain Solar West, LLC.

Filed Date: 2/1/16.

Accession Number: 20160201-5425.

Comments Due: 5 p.m. ET 2/22/16.

Docket Numbers: EG16-48-000.

Applicants: Iron Springs Solar, LLC.

Description: Notice of Self-Certification of Exempt Wholesale Generator Status of Iron Springs Solar, LLC.

Filed Date: 2/1/16.

Accession Number: 20160201-5428.

Comments Due: 5 p.m. ET 2/22/16.

Take notice that the Commission received the following electric rate filings:

Docket Numbers: ER12-2302-004.

Applicants: Midcontinent Independent System Operator, Inc.

Description: Compliance filing: 2016-02-01_SSR 2016 Compliance Filing to be effective 9/24/2012.

Filed Date: 2/1/16.

Accession Number: 20160201-5365.

Comments Due: 5 p.m. ET 2/22/16.

Docket Numbers: ER16-292-000.

Applicants: Northern Virginia Electric Cooperative, Inc.

Description: Northern Virginia Electric Cooperative, Inc. submits tariff filing per 35.19a(b): Refund Report to be effective N/A.

Filed Date: 2/1/16.

Accession Number: 20160201-5462.

Comments Due: 5 p.m. ET 2/22/16.

Docket Numbers: ER16-634-000.

Applicants: AltaGas Pomona Energy Inc.

Description: Supplement to December 24, 2015 AltaGas Pomona Energy Inc. tariff filing.

Filed Date: 1/29/16.

Accession Number: 20160129-5044.

Comments Due: 5 p.m. ET 2/19/16.

Docket Numbers: ER16-841-000.

Applicants: Midcontinent Independent System Operator, Inc.

Description: § 205(d) Rate Filing: 2016-02-01_SA 1559 ITC Midwest-FPL Energy GIA (G113) to be effective 2/2/2016.

Filed Date: 2/1/16.

Accession Number: 20160201-5272.

Comments Due: 5 p.m. ET 2/22/16.

Docket Numbers: ER16-842-000.

Applicants: Kay Wind, LLC.

Description: § 205(d) Rate Filing: Kay Wind Tariff Amendment Filing to be effective 2/2/2016.

Filed Date: 2/1/16.

Accession Number: 20160201-5414.

Comments Due: 5 p.m. ET 2/22/16.

Docket Numbers: ER16-843-000.

Applicants: Kentucky Utilities Company.

Description: § 205(d) Rate Filing: Conformed KU Muni Contracts Rate Case Settlements to be effective 2/2/2016.

Filed Date: 2/1/16.

Accession Number: 20160201-5458.

Comments Due: 5 p.m. ET 2/22/16.

Docket Numbers: ER16-844-000.

Applicants: Midcontinent Independent System Operator, Inc., Consumers Energy Company.

Description: § 205(d) Rate Filing: 2016-02-01_Rate Schedule 11 Michigan Joint Zone RAA to be effective 4/1/2016.

Filed Date: 2/1/16.

Accession Number: 20160201-5466.

Comments Due: 5 p.m. ET 2/22/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2016.
Nathaniel J. Davis, Sr.,
Deputy Secretary.

[FR Doc. 2016-02252 Filed 2-4-16; 8:45 am]

BILLING CODE 6717-01-P